DEPARTMENT OF ENERGY

Federal Energy Regulatory Commission

[Project No. 12063-001]

Little Wood River Ranch II, Idaho William Arkoosh, Notice of Availability of Final Environmental Assessment

August 16, 2005.

In accordance with the National Environmental Policy Act of 1969 and the Federal Energy Regulatory Commission's (Commission) regulations, 18 CFR part 380 (Order No. 486, 52 FR 47897), the Office of Energy Projects has reviewed the application and prepared the enclosed Environmental Assessment (EA) for an original license for William Arkoosh's Little Wood River Ranch II Hydroelectric Project. The proposed project would be located on the Little Wood River, 6 miles west of the town of Shoshone, Lincoln County, Idaho. The proposed project would be located entirely on private lands owned by William Arkoosh. The EA contains the staff's analysis of the potential environmental impacts of the proposed project and concludes that licensing the project, with appropriate environmental protective measures, would not constitute a major federal action that would significantly affect the quality of the human environment.

A copy of the EA is available for review at the Commission in the Public Reference Room or may be viewed on the Commission's Web site at http://www.ferc.gov using the “FERRIS” link. Enter the docket number excluding the last three digits in the docket number field to access the document. For assistance, call 1-866-208-3676 or for TTY, (202) 502-8659.

Any comments should be filed within 30 days from the issuance date of this notice, and should be addressed to the Secretary, Federal Energy Regulatory Commission, 888 First Street, NE., Room 1-A, Washington, DC 20426. Please affix “Little Wood River Ranch II Hydroelectric Project No. 12063” to all comments. Comments may be filed electronically via Internet in lieu of paper. The Commission strongly encourages electronic filings. See 18 CFR 385.2001(a)(1)(iii) and the instructions on the Commission's Web site under the “eFiling” link. For further information, contact Gaylord Hoisington at (202) 502-6032.

Magalie R. Salas,
Secretary.

[FR Doc. E5-4567 Filed 8-22-05; 8:45 am]

BILLING CODE 6717-01-P